DEPARTMENT OF THE INTERIOR

Fish and Wildlife Service

[Docket No. FWS-HQ-NCTC-2023-0007; FXGO16610900600-234-FF09X35000; OMB Control Number 1018-0176]

Agency Information Collection Activities; Native Youth Climate Adaptation Leadership Congress

AGENCY: Fish and Wildlife Service, Interior.

ACTION: Notice of information collection; request for comment.

SUMMARY: In accordance with the Paperwork Reduction Act of 1995, on March 10, 2023, we, the U.S. Fish and Wildlife Service, published a notice announcing that we are proposing to revise a currently approved information collection (IC). The notice opened a public comment period, which closed on May 9, 2023. We subsequently identified additional proposed changes to the IC that were not included in the original notice; therefore, we are now republishing the notice in full, including the original and newly identified proposed changes, and reopening the comment period.

DATES: Interested persons are invited to submit comments on or before October 17, 2023.

ADDRESSES: Send your comments on the information collection request (ICR) by one of the following methods (please reference 1018-0176 in the subject line of your comments):

• Internet (preferred): https://www.regulations.gov. Follow the instructions for submitting comments on Docket No. FWS-HQ-NCTC-2023-0007.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Service offers eligible Native American, Alaska Native, Native Hawaiian, and Pacific Islander high school students the opportunity to apply for the Native Youth Climate Adaptation Leadership Congress (Congress). The mission of the Congress is to develop future conservation leaders with the skills, knowledge, and tools to address environmental change and conservation challenges to better serve their schools and home communities. The Congress supports and operates under the following authorities:

• Executive Order (E.O.) 13175, “Consultation and Coordination With Indian Tribal Governments” (November 6, 2000);

• E.O. 13515, “Increasing Participation of Asian Americans and Pacific Islanders in Federal Programs” (October 14, 2009);

• E.O. 13592, “Improving American Indian and Alaska Native Educational Opportunities and Strengthening Tribal Colleges and Universities” (December 2, 2011);

• Public Law 116-9, Section 9003, “John D. Dingell, Jr. Conservation, Management, and Recreation Act” (March 12, 2019);

• 16 U.S.C. 1727b, Indian Youth Service Corps;

• White House Memorandum on Government-to-Government Relationships with Tribal Governments (September 23, 2004);

• Secretarial Order (S.O.) 3206, “American Indian Tribal Rights, Federal-Tribal Trust Responsibilities, and the Endangered Species Act,” issued jointly by the Department of the Interior and the Department of Commerce (June 5, 1997);

• S.O. 3317, “Department of the Interior Policy on Consultation with Indian Tribes” (December 1, 2011);

• S.O. 3335, “Reaffirmation of the Federal Trust Responsibility to Federally Recognized Indian Tribes and Individual Indian Beneficiaries” (August 20, 2014);

• S.O. 3403, “Joint Secretarial Order on Fulfilling the Trust Responsibility to Indian Tribes in the Stewardship of Federal Lands and Waters”;

• Director's Order (D.O.) 227, “Fulfilling the Trust Responsibility to Tribes and the Native Hawaiian Community, and Other Obligations to Alaska Native Corporations and Alaska Native Organizations, in the Stewardship of Federal Lands and Waters”; and

• The Service's Native American Policy (510 FW 1), published January 20, 2016.

The following Federal partners assist and support the Service's administration of the Congress:

• The U.S. Department of the Interior—

—Bureau of Indian Affairs;

—Bureau of Land Management;

—National Park Service; and

—United States Geological Survey;

• The U.S. Department of Agriculture—U.S. Forest Service;

• The U.S. Department of Commerce—National Oceanic and Atmospheric Administration;

• The Federal Emergency Management Agency;

• The National Aeronautics and Space Administration; and

• The Environmental Protection Agency.

The weeklong environmental Congress fosters an inclusive and meaningful educational opportunity for aspiring Indigenous youth leaders interested in addressing environmental issues facing Native American, Alaska Native, Native Hawaiians, and Pacific Islander communities. Eligible students—representing a diverse mix of Indigenous communities from various geographic locations, both urban and rural—compete for the opportunity to represent their communities from across the country. The students learn about environmental change and conservation while strengthening their leadership skills for addressing conservation issues within their own communities.

Through a cooperative agreement with the New Mexico Wildlife Federation (NMWF), the Service solicits and evaluates applications from eligible students interested in applying for the program. The NMWF notifies successful applicants and arranges all travel for them. Information collected from each applicant via an online application administered by the NMWF includes:

• Applicant's full name, contact information, date of birth, and Tribal/community affiliation;

• Emergency contact information for applicant;

• Name and contact information of applicant's mentor;

• Applicant's school name and address;

• Applicant's current grade in school;

• Applicant's participation in extracurricular activities, school clubs, or community organizations;

• Applicant's volunteer experience; and

• Applicant's accomplishments or awards received.

Each applicant provides essay responses to questions concerning topics such as environmental issues affecting their home/Tribal community, how or whether the environmental issues are addressed, and/or how, as a Native youth leader, they can lead the community in adapting to a changing environment.

In addition to the online application form, the Service uses following forms in conjunction with the Congress:

• Form 3-2525, “Native Youth Climate Adaptation Leadership Congress Student Medical Information”—collects the following information:

—Student's full name and preferred name;

—Date of birth;

—Age;

—Health insurance policy information;

—Medication information, to include dose and frequency;

—Drug and/or food sensitivities/allergies;

—Medications and immunizations; and

—Pre-existing condition(s).

• Form 3-2546, “Enrollment Form”—collects the following information:

—Applicant's full name, address, and contact information;

—Parent/guardian name and contact information;

—Student's age, date of birth, and gender;

—Student's high school year;

—Student's high school name, address, and contact information; and

—Chaperone name.

• Form 3-2547, “Parental Consent Form”—collects the following information:

—Name of student and date of birth;

—Student address, school, grade, and contact information; and

—Student's physician name, address, and contact information.

• Form 3-2548, “Student Conduct Agreement”—collects the following information:

—Student's full name and preferred name;

—Student signature and signature date; and

—Parent/guardian name, signature, and signature date.

• Form 3-2549, “Mentor Waiver”—collects the following information:

—Mentor name;

—Mentor signature and signature date; and

—Emergency contact name and contact number.

We require successful students to provide basic medical information so that we can assure their health and safety while on site at the National Conservation Training Center. The on-site nurse keeps this information strictly confidential, for use only in an emergency. Additionally, we ask all minors, Congress, and junior faculty participants to complete the Service's photo release and the contractor's river waiver. Although both forms are certifications and exempt under the PRA, they are included in this information collection as supplemental documents.

Proposed Revisions

With this submission, the Service proposes the following new and revised requirements to the currently approved information collection:

1. (Revision) Student Enrollment Information Form (Form 3-2546)—We propose to revise Form 3-2546, Student Enrollment Information Form, to expand options for providing gender identity.

2. (New) Travel Information (Form 3-2570)—We propose to add Form 3-2570, Travel Information, which collects travel and personal identification information for students attending the Congress. This new form will collect the following information:

• Name, contact information, date of birth, and group/school/community name for chaperone;

• Identifying information for groups' participants, to include name, date of birth, phone number, and gender (required by airline);

• Airport information;

• Special travel needs;

• Address for travel stipend payments; and

• Additional comments or questions.

3. (New) Junior Faculty Competitive Nomination Form (Form 3-2571)—We propose to add Form 3-2571, Junior Faculty Competitive Nomination Form, which collects nominee information, to include name, address, email, phone number, affiliated organization (sponsoring organization information), and a copy of the nominee's resume. We also ask the college-aged junior faculty to complete a Competitive Nomination Form (as part of the review and selection process). The Junior Faculty Competitive Nomination Form collects the following information:

• Student's full name;

• Student's Tribal affiliation;

• Student's phone number;

• Student's email address;

• Student's affiliated/sponsoring organization; and

• Affiliated/sponsoring organization address.

The Junior Faculty Competitive Nomination Form also includes the following four questions, which allow applicants to describe their interest in being nominated for the program:

• What are strengths that you can bring to share with the other junior faculty and larger Congress community?

• How do you hope to grow by participating in Congress?

• What would you like to learn or what opportunities are you looking for?

• What change do you hope to make or impact do you hope to have in your home community?

4. (New) Adult Enrollment and Emergency Contact Form (Form 3-2572)—We propose to add Form 3-2572, Adult Enrollment and Emergency Contact Form, which collects emergency contact information, should an event occur where we need to contact outside individuals related to the participant. We also ask the college-aged Junior Faculty to complete a Competitive Nomination Form (as part of the review and selection process) and an Adult Enrollment and Emergency Information Form once selected. The Adult Enrollment and Emergency Contact Form collects the following information (once the student has been accepted):

• Student's full name and preferred name/nickname;

• Student's full home address;

• Student's email address;

• Student's phone number;

• Student's affiliated/sponsoring organization's name and POC;

• Affiliated/sponsoring organization's address;

• Affiliated/sponsoring organizational POC's phone number and email;

• Student's nearest airport (for travel coordination);

• Student's person to notify in case of emergency;

• Student's person to notify phone number and email; and

• Additional information to be aware of (open ended).

5. (Revision) We updated the title of the collection to “Native Youth Climate Adaptation Leadership Congress” (previously “Native Youth Community Adaptation and Leadership Congress”).

The public may request copies of any form contained in this information collection by sending a request to the Service Information Collection Clearance Officer (see ADDRESSES).

Title of Collection: Native Youth Climate Adaptation Leadership Congress.

OMB Control Number: 1018-0176.

Form Numbers: Forms 3-2525, 3-2546, 3-2547, 3-2548, 3-2549, 3-2570, 3-2571, and 3-2572.

Type of Review: Revision of a currently approved information collection.

Respondents/Affected Public: Eligible Tribal and Indigenous high school students and their supporting mentors, or college students interested in applying for the program.

Respondent's Obligation: Voluntary.

Frequency of Collection: On occasion.

Total Estimated Annual Nonhour Burden Cost: None.

Activity | Total annual responses | Completion time per response | Total annual burden hours
Application (Online) | 105 | 4 Hours | 420
Form 3-2525, Student Medical Information | 100 | 30 Mins | 50
Form 3-2546, Enrollment Form | 100 | 18 mins | 30
Form 3-2547, Parental Consent Form | 100 | 12 Mins | 20
Form 3-2548, Student Conduct Agreement | 100 | 12 Mins | 20
Form 3-2549, Mentor Waiver | 30 | 12 Mins | 6
Form 3-2570, Travel Form | 100 | 20 Mins | 33
Form 3-2571, Junior Faculty Competitive Nomination Form | 30 | 20 Mins | 10
Form 3-2572, Adult Enrollment and Emergency Contact Form | 30 | 10 Mins | 5
Totals: | 695 |  | 594

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-17768 Filed 8-17-23; 8:45 am]

BILLING CODE 4333-15-P